NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Revision.

2. The title of the information collection: 10 CFR part 39—Licenses and Radiation Safety Requirements for Well Logging.

3. The form number if applicable: N/A.

4. How often the collection is required: Applications for new licenses and amendments may be submitted at any time. Applications for renewal are submitted every 10 years. Reports are submitted as events occur.

5. Who will be required or asked to report: Applicants for and holders of specific licenses authorizing the use of licensed radioactive material for radiography.

6. An estimate of the number of annual responses: 1,899 (NRC licensees—376 plus 37 recordkeepers and Agreement State licensees—1,353 plus 133 recordkeepers).

7. The estimated number of annual respondents: 170 (37 NRC Licensees and 133 Agreement State Licensees).

8. An estimate of the total number of hours needed annually to complete the requirement or request: 36,890 hours. The NRC licensees total burden is 8,037 hours (116 reporting hrs plus 7,921 recordkeeping hrs). The Agreement State licensees total burden is 28,853 hours (423 reporting hrs plus 28,430 recordkeeping hrs). The average burden per response for both NRC licensees and Agreement State licensees is 3.2 hours, and the burden per recordkeeper is 214 hours.

9. An indication of whether section 3507(d), Public Law 104-13 applies: N/A.

10. Abstract: 10 CFR part 39 establishes radiation safety requirements for the use of radioactive material in well logging operations. The information in the applications, reports and records is used by the NRC staff to ensure that the health and safety of the public is protected and that licensee possession and use of source and byproduct material is in compliance with license and regulatory requirements.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by September 27, 2007. Comments received after this date will be considered if it is practical to do so, but assurance of consideration cannot be given to comments received after this date.

Nathan Frey, Desk Officer, Office of Information and Regulatory Affairs (3150-0130), NEOB-10202, Office of Management and Budget, Washington, DC 20503.

Comments can also be e-mailed to Nathan_Frey@omb.eop.gov or submitted by telephone at (202) 395-4650.

The NRC Clearance Officer is Margaret A. Janney, 301-415-7245.

Dated at Rockville, Maryland, this 20th day of August, 2007.
For the Nuclear Regulatory Commission.
Christopher Colburn,
Acting NRC Clearance Officer, Office of Information Services.

[FR Doc. E7-16998 Filed 8-27-07; 8:45 am]

BILLING CODE 7590-01-P